DEPARTMENT OF COMMERCE

National Oceanic and Atmospheric Administration

50 CFR Part 622

[I.D. 021507B]

South Atlantic Fishery Management Council; Public Hearings

AGENCY: National Marine Fisheries Service (NMFS), National Oceanic and Atmospheric Administration, Commerce.

ACTION: Notice of additional public hearing.

SUMMARY: The South Atlantic Fishery Management Council (Council) will hold an additional public hearing in a series of public hearings regarding Amendment 18 to the Fishery Management Plan for Coastal Migratory Pelagic Resources of the Gulf of Mexico and South Atlantic. Amendment 18 will modify the total allowable catch (TAC) for the Atlantic migratory group king mackerel and Spanish mackerel fisheries, and change the commercial trip limits for Spanish mackerel to reflect recent changes in the fishing year.

DATES: The additional public hearing will be held March 18, 2007. Written comments regarding Amendment 18 must be received in the Council office by close of business on April 10, 2007. See SUPPLEMENTARY INFORMATION for the date, time, and location of the public hearing.

ADDRESSES: Written comments should be sent to Bob Mahood, Executive Director, South Atlantic Fishery Management Council, 4055 Faber Place Drive, Suite 201, North Charleston, SC 29405, or via email to MackerelAmendment18@safmc.net. Copies of the public hearing document are available from Kim Iverson, South Atlantic Fishery Management Council, 4055 Faber Place Drive, Suite 201, North Charleston, SC 29405; telephone: 843-571-4366 or toll free at 866/SAFMC-10.

FOR FURTHER INFORMATION CONTACT: Kim Iverson, South Atlantic Fishery Management Council, 4055 Faber Place Drive, Suite 201, North Charleston, SC 29405; telephone: 843-571-4366; fax: 843-769-4520; email address: kim.iverson@safmc.net.

SUPPLEMENTARY INFORMATION: The Council initiated a regulatory amendment in June 2006 to adjust the TAC following an assessment and report reflecting the need to reduce the current TACs for both Atlantic migratory group king and Spanish mackerel. The Council is proposing to reduce the current annual TAC for king mackerel from 10.0 million pounds to 7.1 million pounds, and for Spanish mackerel from 7.04 million pounds to 6.7 million pounds. Amendment 18 was changed from a regulatory amendment to a plan amendment in September 2006 to allow more flexibility for alternatives. While the title has changed, the alternatives and information contained in the plan amendment remain the same. Information regarding the other public hearings was published at 72 FR 8145, February 23, 2007, remain unchanged and will not be repeated in this notification.

Public Hearing, Date, and Location

The additional public hearing will be held Sunday, March 18, 2007, at 6 p.m. The hearing will be held at the Hatteras Civic Center, Highway 12, Hatteras, NC 27943.

Special Accommodations

These meetings are physically accessible to people with disabilities. Requests for sign language interpretation or other auxiliary aids should be directed to the Council office (see ADDRESSES) by March 16, 2007.

Authority: 16 U.S.C. 1801 et seq.

Dated: February 26, 2007.
James P. Burgess,
Acting Director, Office of Sustainable Fisheries, National Marine Fisheries Service.

[FR Doc. E7-3703 Filed 3-1-07; 8:45 am]

BILLING CODE 3510-22-S